DEPARTMENT OF ENERGY

Federal Energy Regulatory Commission

[Project No. 2711-025]

Northern States Power Company; Notice of Application Accepted for Filing and Soliciting Motions To Intervene and Protests

Take notice that the following hydroelectric application has been filed with the Commission and is available for public inspection.

a. Type of Application: Subsequent Minor License.

b. Project No.: 2711-025.

c. Date filed: November 30, 2023.

d. Applicant: Northern States Power Company (Northern States Power).

e. Name of Project: Trego Hydroelectric Project (Trego Project).

f. Location: The Trego Project is located on the Namekagon River in Washburn County, Wisconsin.

g. Filed Pursuant to: Federal Power Act, 16 U.S.C. 791(a)-825(r).

h. Applicant Contact: Donald Hartinger, Director of Renewable Operation-Hydro, Xcel Energy, 414 Nicollet Mall, 2, Minneapolis, MN 55401; phone (651) 261-7668; or Matthew Miller, Environmental Analyst, Xcel Energy, 1414 W. Hamilton Ave., PO Box 8, Eau Claire, WI 54702-0008; phone 715-737-1353.

i. FERC Contact: Laura Washington at (202) 502-6072; or email at Laura.Washington@ferc.gov.

j. Deadline for filing motions to intervene and protests: on or before 5:00 p.m. Eastern Time on September 9, 2025.

The Commission strongly encourages electronic filing. Please file motions to intervene and protests using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Trego Hydroelectric Project (P-2711-025).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis at this time.

l. The Trego Project consists of the following facilities: (1) a 435.2-acre reservoir; (2) a 642-foot-long, 43.5-foot-high concrete dam; (3) a 59.5-foot-long, 74-feet-high powerhouse containing two James Leffel Company vertical Francis-type turbines with a total generating capacity of 1.2 megawatts; (4) a tailwater; and (5) a 49-foot-long transmission line. Northern States Power is not proposing any changes to project facilities or operation.

m. A copy of the application is available for review via the internet through the Commission's Home Page (http://www.ferc.gov), using the “eLibrary” link. Enter the docket number, excluding the last three digits in the docket number field, to access the document. For assistance, contact FERC at FERCOnlineSupport@ferc.gov or call toll free, (886) 208-3676 or TTY (202) 502-8659.

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Comments on Scoping Document 1 due | July 2025
Request Additional Information (if necessary) | August 2025
Issue Scoping Document 2 (if necessary) | September 2025

Dated: July 11, 2025.
Carlos D. Clay,
Deputy Secretary.

[FR Doc. 2025-13301 Filed 7-15-25; 8:45 am]

BILLING CODE 6717-01-P